DEPARTMENT OF AGRICULTURE

Office of the Secretary

Notice of the National Agricultural Research, Extension, Education, and Economics (NAREEE) Advisory Board Meeting

AGENCY: Research, Education, and Economics, USDA.

ACTION: Notice of meeting.

SUMMARY: In accordance with the Federal Advisory Committee Act, 5 U.S.C. App., the United States Department of Agriculture announces a Western Regional meeting of the National Agricultural Research, Extension, Education, and Economics Advisory Board.

DATES: The National Agricultural Research, Extension, Education, and Economics Advisory Board will meet on July 8, 2003.

The public may file written comments before or up to two weeks after the meeting with the contact person.

ADDRESSES: The meeting will take place at Tanimura & Antle, 1 Harris Road, Salinas, CA 93901. Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@reeusda.gov.

SUPPLEMENTARY INFORMATION: On Tuesday, July 8, 2003, the National Agricultural Research, Extension, Education, and Economics Advisory Board will hold a Stakeholders meeting at Tanimura & Antle, 1 Harris Road, Salinas, CA, for the purpose of obtaining regional input on research and education issues of high priority in the Western Region. Findings of this regional meeting will be sculptured as advice by the Advisory Board to the Secretary of Agriculture.

The Advisory Board Meeting will convene on Tuesday, July 8, 2003, at 8 a.m. and adjourn by 4 p.m. Opportunities for public comment will be available prior to adjournment. Also, written comments for the public record will be welcomed before and up to two weeks following the Board meeting (by close of business Wednesday, July 22, 2003). All statements will become a part of the official record of the National Agricultural Research, Extension, Education, and Economics Advisory Board and will be kept on file for public review in the Research, Extension, Education, and Economics Advisory Board Office.

Done at Washington, DC this 19th day of June 2003.
Joseph J. Jen,
Under Secretary, Research, Education, and Economics.

[FR Doc. 03-16436 Filed 6-27-03; 8:45 am]

BILLING CODE 3410-22-P